DEPARTMENT OF ENERGY

Federal Energy Regulatory Commission

[Project No. 2016-044]

City of Tacoma; Notice of Extension of Time To File Motions To Intervene and Protests, and Comments, Final Terms and Conditions, Recommendations and Prescriptions

May 10, 2000.

By letter dated May 8, 2000, Martha Bean, mediator working with the City of Tacoma and other parties on the relicensing of the Cowlitz River Project, filed on behalf of eight federal, state, and local agencies and the City of Tacoma, a request for an extension of time until July 15, 2000, to file protests and motions to intervene, and comments, recommendations, terms and conditions, and prescriptions, as directed by the Commission's notice issued March 15, 2000, in the above-docketed project. The request for an extension of time included an Agreement in Principal (AIP) Regarding Passage, Production, Hatchery and Habitat, and Recreation for the Cowlitz Project that was supported by a majority of the agency participants in the relicensing process. In the motion, the parties request additional time for legal counsel to craft a final settlement document, based on the filed AIP.

Upon consideration, notice is hereby given that an extension of time for the filing of protests and motions to intervene, and final comments, recommendations, terms and conditions, and prescriptions is granted to and including July 15, 2000.

David P. Boergers,
Secretary.

[FR Doc. 00-12221 Filed 5-15-00; 8:45 am]

BILLING CODE 6717-01-M